DEPARTMENT OF ENERGY

Federal Energy Regulatory Commission

[Project No. P-7887-019]

Ashuelot River Hydro, Inc.; Notice of Reasonable Period of Time for Water Quality Certification Application

On August 27, 2024, the New Hampshire Department of Environmental Services (New Hampshire DES) submitted to the Federal Energy Regulatory Commission (Commission) notice that it received a request for a Clean Water Act section 401(a)(1) water quality certification as defined in 40 CFR 121.5, from Ashuelot River Hydro, Inc., in conjunction with the above captioned project on July 8, 2024. Pursuant to section 4.34(b) of the Commission's regulations,¹ we hereby notify New Hampshire DES of the following:

¹ 18 CFR [4.34(b)(5)].

Date of Receipt of the Certification Request: July 8, 2024.

Reasonable Period of Time to Act on the Certification Request: One year, July 8, 2025.

If New Hampshire DES fails or refuses to act on the water quality certification request on or before the above date, then the certifying authority is deemed waived pursuant to section 401(a)(1) of the Clean Water Act, 33 U.S.C. 1341(a)(1).

Dated: September 16, 2024.
Debbie-Anne A. Reese,
Acting Secretary.

[FR Doc. 2024-21595 Filed 9-19-24; 8:45 am]

BILLING CODE 6717-01-P